DEPARTMENT OF TRANSPORTATION

Federal Aviation Administration

14 CFR Part 39

[Docket No. FAA-2010-0411; Directorate Identifier 2010-NE-19-AD; Amendment 39-16278; AD 2010-09-13]

RIN 2120-AA64

Airworthiness Directives; Turbomeca Makila 2A Turboshaft Engines

AGENCY: Federal Aviation Administration (FAA), DOT.

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

Some digital engine control units (DECUs) used to control MAKILA 2A and MAKILA 2A1 engines have an ambient pressure (P0) sensor with a measurement accuracy that may be outside the range required for satisfactory functioning of the engines throughout the entire operating envelope. In certain extreme flight conditions, the lack of P0 measurement accuracy could potentially cause an engine flameout if the engine is operating on a replacement fuel.

The issue is limited to a batch of 24 DECUs, of which 23 are known to be still in service. Since 01 January 2010, any such DECU returned to an approved repair centre has had its P0 sensor checked and replaced as necessary.

We are issuing this AD to prevent an uncommanded engine in-flight shutdown which could result in a forced autorotation landing or accident.

DATES: This AD becomes effective May 17, 2010.

We must receive comments on this AD by June 1, 2010.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Kevin Dickert, Aerospace Engineer, Engine Certification Office, FAA, Engine & Propeller Directorate, 12 New England Executive Park, Burlington, MA 01803; e-mail: kevin.dickert@faa.gov; telephone (781) 238-7117; fax (781) 238-7199.

SUPPLEMENTARY INFORMATION:

Discussion

The European Aviation Safety Agency (EASA), which is the Technical Agent for the Member States of the European Community, has issued AD 2010-0068-E (corrected), dated April 13, 2010 (referred to after this as “the MCAI”), to correct an unsafe condition for the specified products. The MCAI states:

Some DECUs used to control MAKILA 2A and MAKILA 2A1 engines have an ambient pressure (P0) sensor with a measurement accuracy that may be outside the range required for satisfactory functioning of the engines throughout the entire operating envelope. In certain extreme flight conditions, the lack of P0 measurement accuracy could potentially cause an engine flameout if the engine is operating on a replacement fuel.

The issue is limited to a batch of 24 DECUs, of which 23 are known to be still in service. Since 01 January 2010, any such DECU returned to an approved repair centre has had its P0 sensor checked and replaced as necessary.

You may obtain further information by examining the MCAI in the AD docket.

FAA's Determination and Requirements of This AD

This product has been approved by the aviation authority of France and is approved for operation in the United States. Pursuant to our bilateral agreement with France, they have notified us of the unsafe condition described in the MCAI and service information referenced above. We are issuing this AD because we evaluated all information provided by EASA, and determined the unsafe condition exists and is likely to exist or develop on other products of the same type design. This AD requires replacement of certain S/N DECUs within 75 flight hours after the effective date of this AD.

Differences Between the AD and the MCAI or Service Information

We have required different actions in this AD from those in the MCAI and service information in order to follow FAA policies. These differences are described in a separate paragraph of the AD. These requirements take precedence over the actions in the MCAI.

FAA's Determination of the Effective Date

Since no domestic operators use this product, notice and opportunity for public comment before issuing this AD are unnecessary. Therefore, we are adopting this regulation immediately.

Comments Invited

This AD is a final rule that involves requirements affecting flight safety, and we did not precede it by notice and opportunity for public comment. We invite you to send any written relevant data, views, or arguments about this AD. Send your comments to an address listed under the ADDRESSES section. Include “Docket No. FAA-2010-0411; Directorate Identifier 2010-NE-19-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-09-13 Turbomeca: Amendment 39-16278.; Docket No. FAA-2010-0411; Directorate Identifier 2010-NE-19-AD.

Effective Date

(a) This airworthiness directive (AD) becomes effective May 17, 2010.

Affected ADs

(b) None.

Applicability

(c) This AD applies to Turbomeca Makila 2A turboshaft engines with any of the following serial number (S/N) digital engine control units (DECUs) installed, if the DECU has not been returned to an approved repair center since January 1, 2010.

S/N 93 | S/N 165 | S/N 193 | S/N 234
S/N 115 | S/N 167 | S/N 201 | S/N 242
S/N 138 | S/N 171 | S/N 215 | S/N 296
S/N 149 | S/N 174 | S/N 216 | S/N 303
S/N 151 | S/N 176 | S/N 218 | S/N 308
S/N 156 | S/N 189 | S/N 231 | —

These engines are installed on, but not limited to, Eurocopter France EC 225LP helicopters.

Reason

(d) Some DECUs used to control MAKILA 2A and MAKILA 2A1 engines have an ambient pressure (P0) sensor with a measurement accuracy that may be outside the range required for satisfactory functioning of the engines throughout the entire operating envelope. In certain extreme flight conditions, the lack of P0 measurement accuracy could potentially cause an engine flameout if the engine is operating on a replacement fuel.

The issue is limited to a batch of 24 DECUs, of which 23 are known to be still in service. Since 01 January 2010, any such DECU returned to an approved repair centre has had its P0 sensor checked and replaced as necessary.

Actions and Compliance

(e) Unless already done, within 75 flight hours after the effective date of this AD, replace the S/N DECUs listed in applicability paragraph (c) of this AD:

(1) With a DECU having a S/N not listed in paragraph (c); or

(2) With a DECU having a S/N listed in paragraph (c), that has been returned to an approved repair center since January 1, 2010.

FAA AD Differences

(f) This AD differs from the Mandatory Continuing Airworthiness Information (MCAI) and/or service information as follows:

(1) EASA AD 2010-0068-E (corrected), dated April 13, 2010, requires, for helicopters having two affected DECUs, that one of the DECUs be replaced before the next flight, and the other DECU be replaced within 75 flight hours after the effective date of the AD.

(2) This AD requires all affected DECUs be replaced within 75 flight hours after the effective date of this AD.

(3) Although EASA AD 2010-0068-E (corrected), dated April 13, 2010, also applies to the Makila 2A1 engine, this AD does not apply to that model because it has no U.S. type certificate.

Alternative Methods of Compliance (AMOCS)

(g) The Manager, Engine Certification Office, FAA, has the authority to approve AMOCs for this AD, if requested using the procedures found in 14 CFR 39.19.

Related Information

(h) Refer to MCAI EASA Airworthiness Directive 2010-0068-E (corrected), dated April 13, 2010, and Turbomeca Alert Mandatory Service Bulletin No. A298 73 2815, Version A, dated March 18, 2010, for related information. Contact Turbomeca, 40220 Tarnos, France; telephone 33 05 59 74 40 00, fax 33 05 59 74 45 15, for a copy of this service information.

(i) Contact Kevin Dickert, Aerospace Engineer, Engine Certification Office, FAA, Engine & Propeller Directorate, 12 New England Executive Park, Burlington, MA 01803; e-mail: kevin.dickert@faa.gov; telephone (781) 238-7117; fax (781) 238-7199, for more information about this AD.

Material Incorporated by Reference

(j) None.

Issued in Burlington, Massachusetts, on April 23, 2010.
Peter A. White,
Assistant Manager, Engine and Propeller Directorate, Aircraft Certification Service.

[FR Doc. 2010-9963 Filed 4-29-10; 8:45 am]

BILLING CODE 4910-13-P